SECURITIES AND EXCHANGE COMMISSION

[Release No. 34-43988; File No. SR-NASD-00-37]

Self-Regulatory Organizations; Notice of Withdrawal of Proposed Rule Change by the National Association of Securities Dealers, Inc., Relating to Permanent Approval of the Nasdaq Application of the OptiMark System

February 20, 2001.

On June 19, 2000, the National Association of Securities Dealers, Inc. (“NASD”), through its subsidiary the Nasdaq Stock Market, Inc. (“Nasdaq”), filed with the Securities and Exchange Commission (“Commission”) a proposed rule change, pursuant to section 19(b)(1) of the Securities Exchange Act of 1934 (“Act”) ¹ and Rule 19b-4 thereunder,² to seek permanent approval of the Nasdaq Application of the OptiMark System without any restrictions on the trading activity to be conducted through the facility. Notice of the proposed rule change was published on August 9, 2000, in the Federal Register, to solicit comment from interested persons.³ On February 12, 2001, the Nasdaq withdrew the proposed rule change.⁴

¹ 15 U.S.C. 78s(b)(1).

² 17 CFR 240.19b-4.

³ Securities Exchange Act Release No. 43107 (Aug. 2, 2000), 65 FR 48771.

⁴ See letter from Peter R. Geraghty, Assistant General Counsel, Nasdaq, to John Polise, Senior Special Counsel, Division of Market Regulation, Commission, dated February 12, 2001.

For the Commission, by the Division of Market Regulation, pursuant to delegated authority.⁵
⁵ 17 CFR 200.30-3(a)(12).
Margaret H. McFarland,
Deputy Secretary.

[FR Doc. 01-4750 Filed 2-26-01; 8:45 am]

BILLING CODE 8010-01-M